DEPARTMENT OF JUSTICE

Parole Commission

[6P04091]

Public Announcement; Sunshine Act

Pursuant to the Government in the Sunshine Act, (Public Law 94-409) (5 U.S.C. Section 552b).

AGENCY HOLDING MEETING: Department of Justice, United States Parole Commission.

TIME AND DATE: 2 p.m., Tuesday, July 5, 2005.

PLACE: 5550 Friendship Blvd., Fourth Floor, Chevy Chase, MD 20815.

STATUS: Open.

MATTER TO BE CONSIDERED: The following matter has been placed on the agenda for the open Parole Commission meeting:

Consideration of rule and procedures to be followed for reviewing a decision pursuant to 28 CFR 2.27, upon request of the Attorney General as provided in 18 U.S.C. 4215(c).

AGENCY CONTACT: Thomas W. Hutchison, Chief of Staff, United States Parole Commission, (301) 492-5990.

Dated: June 24, 2005.
Pamela A. Posch,
Assistant General Counsel, U.S. Parole Commission.

[FR Doc. 05-12890 Filed 6-27-05; 10:36 am]

BILLING CODE 4410-31-M